DEPARTMENT OF ENERGY

Federal Energy Regulatory Commission

[Project No. 3442-029]

City of Nashua, New Hampshire; Notice Soliciting Scoping Comments

Take notice that the following application has been filed with the Commission and is available for public inspection.

a. Type of Application: Subsequent License.

b. Project No.: P-3442-029.

c. Date filed: July 30, 2021.

d. Applicant: City of Nashua (the City).

e. Name of Project: Mine Falls Hydroelectric Project.

f. Location: The existing project is located on the Nashua River in Hillsborough County, New Hampshire. The project does not affect Federal lands.

g. Filed Pursuant to: Federal Power Act 16 U.S.C. 791(a)-825(r).

h. Applicant Contact: James W. Donchess, Mayor, City of Nashua, 229 Main Street, P.O. Box 2019, Nashua, NH 03060; Telephone (603) 589-3260.

i. FERC Contact: Khatoon Melick, (202) 502-8433, or email at khatoon.melick@ferc.gov.

j. Deadline for filing scoping comments: May 19, 2023.

The Commission strongly encourages electronic filing. Please file all documents using the Commission's eFiling system at https://ferconline.ferc.gov/FERCOnline.aspx. Commenters can submit brief comments up to 6,000 characters, without prior registration, using the eComment system at https://ferconline.ferc.gov/QuickComment.aspx. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. Submissions sent via any other carrier must be addressed to: Kimberly D. Bose, Secretary, Federal Energy Regulatory Commission, 12225 Wilkins Avenue, Rockville, Maryland 20852. All filings must clearly identify the project name and docket number on the first page: Mine Falls Hydroelectric Project (P-3442-029).

k. This application is not ready for environmental analysis at this time.

l. The existing project consists of: (1) a 242-acre impoundment with a normal storage volume of 1,970 acre-feet and a normal headpond elevation of 158.76 ft (NAVD 88); (2) a rock filled concrete cap, variable in height dam with an approximately 132-foot-long spillway at a permanent crest elevation of 154.66 feet, and nominal 4.0-foot-high wooden flashboards maintaining a normal headpond elevation of 158.76 feet; (3) a 22-foot-wide and 170-foot-long reinforced concrete power canal located between the right bank of the Nashua river and the single flood sluice gate; (4) two 12.5-foot-long wooden stoplog bays located immediately upstream of the intake to the right of the concrete capped spillway (viewed facing downstream) with a 10-foot-wide gate and a short spillway section above the gate; (5) a 40-foot-wide, 20-foot-high intake structure with steel trashrack with two square-to-round transition openings that feed the two penstocks that terminate at the two turbines; (6) two 64-foot-long, 104-inch-diameter steel penstocks between the intake and turbine units; (7) a 44-foot-long, 44-foot-wide multi-level reinforced concrete powerhouse containing two 1,500 kilowatt turbine-generator units; (8) an approximately 22-foot-wide, 1,100-foot-long tailrace that is a channel cut into the Nashua river bedrock downstream of the powerhouse that returns water back into the Nashua river; (9) a 278-foot-long bypass reach extending from the spillway crest and stoplog bays to the downstream of the powerhouse at the tailrace, bypassing 20 cubic feet per second (cfs) of water for environmental flows; (10) an upstream fish passage; (11) a 610-foot-long, 34.5-kilovolt underground transmission line connects the generator transformer to the interconnect point; and (12) appurtenant facilities. The estimated gross head of the project is 38 feet. The powerplant has a maximum nameplate capacity of 3 MW. The project generates an annual average of 12,563 megawatt-hours.

The City proposes to continue to operate the project in a run-of-river mode with no storage or flood control capacity. The project operates within a flow range of 180 cfs (150 cfs minimum hydraulic capacity to start a single turbine, plus 20 cfs minimum bypass release at the dam and an additional 10 cfs flow routed through the Mill Pond gatehouse to the Mill Pond and canal) and 1,100 cfs (maximum hydraulic capacity of the plant—two turbines combined) or a river flow of 1,130 cfs. Any flow above the capacity of the turbines plus minimum bypass flow and Mill pond diversion is spilled over the dam spillway and through the overflow section of the flood sluice gate.

m. In addition to publishing the full text of this document in the Federal Register. The Commission provides all interested persons an opportunity to view and/or print the contents of this document via the internet through the Commission's Home Page (http://www.ferc.gov) using the “eLibrary” link. Enter the docket number excluding the last three digits in the docket number field to access the document. You may also register online at http://www.ferc.gov/docs-filing/esubscription.asp to be notified via email of new filings and issuances related to this or other pending projects. For assistance, call 1-866-208-3676 or email FERCOnlineSupport@ferc.gov, for TTY, call (202) 502-8659. Agencies may obtain copies of the application directly from the applicant.

n. Register online at https://ferconline.ferc.gov/FERCOnline.aspx to be notified via email of new filings and issuances related to this or other pending projects. For assistance, contact FERC Online Support.

o. Scoping Process:

The Commission staff intends to prepare an Environmental Assessment (EA) for the Mine Falls Hydroelectric Project in accordance with the National Environmental Policy Act. The EA will consider site-specific environmental impacts and reasonable alternatives to the proposed action.

Commission staff does not propose to conduct any on-site scoping meetings at this time. Instead, we are soliciting comments, recommendations, and information, on the Scoping Document (SD) issued on April 19, 2023.

Copies of the SD outlining the subject areas to be addressed in the EA were distributed to the parties on the Commission's mailing list and the applicant's distribution list. Copies of the SD may be viewed on the web at http://www.ferc.gov using the “eLibrary” link. Follow the directions for accessing information in paragraph m. Based on all written comments, a Scoping Document 2 (SD2) may be issued. SD2 may include a revised schedule, as well as a list of issues, identified through the scoping process.

Dated: April 19, 2023.
Debbie-Anne A. Reese,
Deputy Secretary.

[FR Doc. 2023-08738 Filed 4-25-23; 8:45 am]

BILLING CODE 6717-01-P